DEPARTMENT OF HEALTH AND HUMAN SERVICES

Centers for Disease Control and Prevention

[60Day-04-47]

Proposed Data Collections Submitted for Public Comment and Recommendations

In compliance with the requirement of Section 3506(c)(2)(A) of the Paperwork Reduction Act of 1995 for opportunity for public comment on proposed data collection projects, the Centers for Disease Control and Prevention (CDC) will publish periodic summaries of proposed projects. To request more information on the proposed projects or to obtain a copy of the data collection plans and instruments, call the CDC Reports Clearance Officer on (404) 498-1210.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Send comments to Seleda Perryman, CDC Assistant Reports Clearance Officer, 1600 Clifton Road, MS-E11, Atlanta, GA 30333. Written comments should be received within 60 days of this notice.

Proposed Project

Foreign Quarantine Regulations, OMB No. 0920-0134—Extension—National Center for Infectious Diseases (NCID), Centers for Disease Control and Prevention (CDC).

Background

Section 361 of the Public Health Service (PHS) Act (42 U.S.C. 264) authorizes the Secretary of Health and Human Services (DHHS) to make and enforce regulations necessary to prevent the introduction, transmission, or spread of communicable diseases from foreign countries into the United States. Legislation and the existing regulations governing quarantine activities (42 CFR part 71) authorize quarantine officers and other personnel to inspect and undertake necessary control measures with respect to conveyances, persons, and shipments of animals and etiologic agents in order to protect the public health. DHHS delegates authority to CDC to conduct quarantine control measures. Currently, with the exception of rodent inspections and the cruise ship sanitation program, inspections are performed only on those vessels and aircraft which report illness prior to arrival or when illness is discovered upon arrival. Other inspection agencies assist quarantine officers in public health screening of persons, pets, and other importations of public health significance and make referrals to PHS when indicated. These practices and procedures assure protection against the introduction and spread of communicable diseases into the United States with a minimum of recordkeeping and reporting as well as a minimum of interference with trade and travel.

Respondents would include airplane pilots, ships' captains, importers, and travelers. The nature of the quarantine response would dictate which forms are completed by whom. Thus, the respondents' portion of the information below is replaced by the requisite form title. There is no cost to respondents.

Respondents | Number of respondents | Number of responses/respondent | Avg. burden per respondent (in hrs.) | Total burden hours
Radio reporting of death/illness:
Aircraft | 1 | 130 | 2/60 | 4
Cruise ships | 90 | 23 | 1/60 | 34
Other ships | 22 | 1 | 1/60 | 0.40
Report by persons held in isolation/surveillance | 11 | 1 | 30/60 | 5.50
Report of death or illness on carrier during stay in port | 5 | 1 | 3/60 | 0.25
Requirements for admission of dogs and cats:
(1) | 5 | 1 | 3/60 | 0.25
(2) | 2,650 | 1 | 15/60 | 662.50
Application for permits to import turtles | 10 | 1 | 30/60 | 5
Requirements for registered importers of nonhuman primates:
(1) | 40 | 1 | 10/60 | 6.70
(2) | 50 | 1 | 30/60 | 25
Total |  |  |  | 744

Dated: April 23, 2004.
Bill J. Atkinson,
Acting Director, Management Analysis and Services Office, Centers for Disease Control and Prevention.

[FR Doc. 04-9937 Filed 4-30-04; 8:45 am]

BILLING CODE 4163-18-P